DEPARTMENT OF HOMELAND SECURITY

Federal Emergency Management Agency

44 CFR Part 65

Changes in Flood Elevation Determinations

AGENCY: Federal Emergency Management Agency (FEMA), Department of Homeland Security, Mitigation Division.

ACTION: Final rule.

SUMMARY: Modified Base (1% annual chance) Flood Elevations (BFEs) are finalized for the communities listed below. These modified elevations will be used to calculate flood insurance premium rates for new buildings and their contents.

DATES: Effective Dates: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Connecticut: Litchfield, (FEMA Docket No. D-7579) | Town of Harwinton | September 6, 2005, September 13, 2005, The Register Citizen | Ms. Marie Knudsen, Town of Harwinton First Selectman, Harwinton Town Hall, 100 Bentley Drive, Harwinton, Connecticut 06791 | December 13, 2005 | 090147 B
Connecticut: Litchfield, (FEMA Docket No. D-7579) | Town of Litchfield | September 6, 2005, September 13, 2005, The Register Citizen | Mr. Leo Paul, Town of Litchfield First Selectman, Town Offices, 74 West Street, P.O. Box 488, Litchfield, Connecticut 06759 | December 13, 2005 | 090047 B
Connecticut: Litchfield, (FEMA Docket No. D-7579) | City of Torrington | September 6, 2005, September 13, 2005, The Register Citizen | The Honorable Owen J. Quinn, Mayor of the City of Torrington, Municipal Building, 140 Main Street, Torrington, Connecticut 06790 | December 13, 2005 | 095081 B
Pennsylvania: Chester, (FEMA Docket No. D-7579) | Township of Atglen | August 11, 2005, August 18, 2005, Daily Local News | The Honorable Wesley Vincent, Mayor of the Borough of Atglen, P.O. Box 250, Atglen, Pennsylvania 19310 | November 17, 2005 | 420273 D
Pennsylvania: Lancaster, (FEMA Docket No. D-7579) | Township of Sadsbury | August 11, 2005, August 18, 2005, Parkesburg Post Ledger | Mr. N. Eugene Lammey, Chairman of the Township of Sadsbury Board of Supervisors, 7182 White Oak Road, Christiana, Pennsylvania 17509 | November 17, 2005 | 421782 E
Pennsylvania: Chester, (FEMA Docket No. D-7579) | Township of West Sadsbury | August 11, 2005, August 18, 2005, Parkesburg Post Ledger | Mr. James Landis, Chairman of the Township of West Sadsbury Board of Supervisors, 6400 N. Moscow Road, Parkesburg, Pennsylvania 19365 | November 17, 2005 | 422281 D

(Catalog of Federal Domestic Assistance No. 83.100, “Flood Insurance.”)
Dated: February 3, 2006.
David I. Maurstad,
Acting Director, Mitigation Division, Federal Emergency Management Agency, Department of Homeland Security.

[FR Doc. 06-1820 Filed 2-27-06; 8:45 am]

BILLING CODE 9110-12-P